DEPARTMENT OF AGRICULTURE

Submission for OMB Review; Comment Request

September 19, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 25, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National School Lunch Program.

OMB Control Number: 0584-0006.

Summary of Collection: Section 10 of the Child Nutrition Act of 1966 (42 U.S.C. 1779) requires the Secretary of Agriculture to prescribe such regulations as deemed necessary to carry out this Act and the Richard B. Russell National School Lunch Act (NSLA) (42 U.S.C. 1751 et seq.). The NSLA, as amended, authorizes the National School Lunch Program (NSLP) to safeguard the health and well-being of the Nation's children and provide free or reduced-price school lunches to eligible students through subsidies to schools. As required, the Secretary of Agriculture issued 7 CFR part 210, which sets forth policies and procedures for the administration and operation of the NSLP.

Need and Use of the Information: This ongoing information collection is required to administer and operate this program in accordance with the NSLA. The Program is administered at the State agency and school food authority (SFA)/local education agency (LEA) levels and States, SFAs/LEAs, and schools under this Act are required to keep accounts and records as may be necessary to enable FNS to determine whether the program is in compliance with this Act and the regulations. Program operations include the submission of applications and agreements and monthly reports of program participation and numbers of meals served submitted from monthly claims for reimbursement. Records maintained include documentation of payment of monthly claims, annual data from Program monitoring reviews, and menu and food production records. In addition to reporting and maintaining records, the States and SFAs/LEAs have publication notification requirements as well. State agencies must post summaries of the most recent administrative review results of SFAs on their websites. LEAs must inform the public annually about the content and implementation of local school wellness policies and must conduct triennial assessments of schools' compliance with the local school wellness policies and inform the public about the progress. FNS uses this information to properly monitor State agency and SFA/LEA compliance.

Description of Respondents: State, Local, or Tribal Government.

Number of Respondents: 115,935.

Frequency of Responses: Recordkeeping; Reporting; Third party disclosure: On occasion, Quarterly, Monthly, and Annually.

Total Burden Hours: 9,808,439.

Food and Nutrition Service

Title: Generic Clearance for the Development of Nutrition Education Messages and Products for the General Public.

OMB Control Number: 0584-0523.

Summary of Collection: The Food and Nutrition Consumer Service, Center for Nutrition Policy and Promotion (CNPP) of the U.S. Department of Agriculture conducts consumer research to identify key issues of concern related to understanding and use of the Dietary Guidelines for Americans (DGA), as well as the tools and resources used to implement the Dietary Guidelines—previously known as the MyPyramid food guidance system. The Dietary Guidelines, a primary source of dietary health information, are issued jointly by the USDA and Health and Human Services and serve as the cornerstone of Federal nutrition policy and form the basis for nutrition education efforts of these agencies. After the release of the 2010 DGA a new communication initiative built around USDA's new MyPlate icon, including the resources at ChooseMyPlate.gov, was launched. MyPlate is a visual cue supported by Dietary Guidelines messages to help consumer make better food choices.

Need and use of the Information: CNPP will collect information to develop practical and meaningful nutrition and physical activity guidance for Americans to help improve their health. The collected information will also be used to expand the knowledge base concerning how the Dietary Guidelines for Americans recommendations and messages supporting MyPlate are understood and how they can be used by consumers to improve balance of their food intake with physical energy expenditure for good health. If this information is not collected, USDA's ability to incorporate messages and materials that are practical, meaningful, and relevant for the intended audience in any proposed update of the Dietary Guidelines for Americans or related resources at Choosemyplate.gov will be impaired.

Description of Respondents: Individuals or households..

Number of Respondents: 174,300.

Frequency of Responses: Reporting: Other (as desired).

Total Burden Hours: 37,065.

Food and Nutrition Service

Title: Generic Clearance to Conduct Formative Research.

OMB Control Number: 0584-0524.

Summary of Collection: This information collection is based on Section 19 of the Child Nutrition Act of 1966 (42 U.S.C. 1787) Section 5 of the Richard B. Russell National School Lunch Act (42 U.S.C. 1754) and Section 11(f) of the Food and Nutrition Act of 2008 (7 U.S.C. 2020). This information collection will conduct research in support of FNS' goal of delivering science-based nutrition education to targeted audiences. From development through testing of materials and tools with the target audience, FNS plans to conduct data collections that involve formative research including focus groups, interviews (dyad, triad, telephone, etc.), surveys and Web-based collection tools.

Need and use of the Information: Obtaining formative input and feedback is fundamental to FNS' success in delivering science-based nutrition messages and reaching diverse segments of the population in ways that are meaningful and relevant. This includes conferring with the target audience, individuals who serve the target audience, and key stakeholders on the communication strategies and interventions that will be developed and on the delivery approaches that will be used to reach consumers. The formative research and testing activities described will help in the development of effective education and promotion tools and communication strategies. Collection of this information will increase FNS' ability to formulate nutrition education interventions that resonate with the intended target population, in particular low-income families.

Description of Respondents: Individuals or households; Not for-profit institutions; Farms; State, Local or Tribal Government.

Number of Respondents: 120,500.

Frequency of Responses: Reporting: On occasion.

Total Burden Hours: 46,781.

Food and Nutrition Service

Title: Supplemental Nutrition Assistance Program Employment and Training Program Performance Measurement, Monitoring and Reporting Requirements.

OMB Control Number: 0584-0614.

Summary of Collection: This is an extension, without change, of a currently approved collection. In accordance with Section 16(h)(5) of the Food and Nutrition Act (FNA), as amended by section 4022 of the Agriculture Act of 2014, and 7 CFR 273.7(c)(17) the Department requires that State agencies report outcome data for the Supplemental Nutrition Employment Program (SNAP) Employment and Training (E&T) programs. In order for FNS to monitor the effectiveness of E&T programs State agencies are required to report outcome data on five separate reporting measures: (1) The number and percentage of E&T participants who retain employment 2 quarters and 4 quarters after completing E&T; (2) the median wages for participants with earnings 2 quarters after completion of E&T; (3) the number and percentage of participants that completed a training, education, work experience or on-the-job training component; (4) certain unique characteristics of SNAP E&T participants; and (5) additional reporting requirements for State agencies that pledge to serve all at-risk Able-bodied Adults without Dependents (ABAWDs). State agencies are also required to identify appropriate reporting measures for each proposed component that serves a threshold number of participants of at least 100 a year. State agencies identify the reporting measures for these components in State agencies' E&T plans and report the outcome data to the Food and Nutrition Service (FNS) through State agencies' annual reports. State agencies are required to report outcome data annually.

Need and Use of the Information: With this information, FNS is able to identify more, and less, successful E&T practices and provide technical assistance to State agencies to improve their E&T programs.

Description of Respondents: State, Local, or Tribal Governments;

Number of Respondents: 53.

Frequency of Responses: Reporting; annually.

Total Burden Hours: 12,233 for reporting.

Ruth Brown,
Departmental Information Collection Clearance Officer.

[FR Doc. 2019-20730 Filed 9-24-19; 8:45 am]

BILLING CODE 3410-30-P